ENVIRONMENTAL PROTECTION AGENCY

[FRL-7088-4]

Notice of Proposed Administrative Order on Consent Pursuant to Section 122(h) of the Comprehensive Environmental Response, Compensation and Liability Act (CERCLA), Economy Products Superfund Site, Shenandoah, IA, Docket No. CERCLA 07-2001-0007

AGENCY: Environmental Protection Agency (EPA).

ACTION: Notice of proposed administrative order on consent, Economy Products Superfund Site, Shenandoah, Iowa.

SUMMARY: Notice is hereby given of a proposed administrative order on consent for recovery of past and projected future response costs concerning the Economy Products Superfund Site in Shenandoah, Iowa with the following party: Factory Place, L.C. This proposed settlement was approved by the United States Department of Justice (DOJ) on August 22, 2001.

DATES: EPA will receive written comments relating to the proposed administrative order on consent by November 23, 2001.

ADDRESSES: Comments should be addressed to Gerhardt Braeckel, Assistant Regional Counsel, United States Environmental Protection Agency, Region VII, 901 N. 5th Street, Kansas City, Kansas 66101 and should refer to Economy Products Superfund Site Administrative Order on Consent, Docket No. CERCLA-07-2001-0007.

The proposed settlement may be examined or obtained in person or by mail from Kathy Robinson, Regional Hearing Clerk, at the office of the United States Environmental Protection Agency, Region VII, 901 N. 5th Street, Kansas City, KS 66101, (913) 551-7567.

SUPPLEMENTARY INFORMATION: The Economy Products Site consists of three parts: (1) The Factory Place Facility which includes property previously owned by Economy Products, Inc. and the May Seed & Nursery Company; (2) the immediately adjacent residential property located to the south along Southwest Road; and (3) part of the railroad right-of-way across the street from the Facility. The proposed Administrative Order on Consent addresses only the Factory Place Facility.

Economy Products operated an agricultural pesticides formulation plant at Southwest Road and Eighth Avenue in the City of Shenandoah, Iowa from 1961 to 1973. Business activities ceased in 1973 when the operation was destroyed by fire, which resulted in the dispersion of pesticide residues across the Economy Products property and onto other parts of the Economy Products Superfund Site. Contaminated debris and soil were removed and disposed of off-site and approximately one foot of clay was spread over the site. May Seed & Nursery Co. purchased the property in 1976 and used it for storage. The property was sold to Factory Place, L.C. in 1999.

Site investigations of the Factory Place Facility found that several pesticides (toxaphene; aldrin; diedrin; DDT; chlordane; endrin; and heptachlor) were detected at concentrations which exceeded Removal Action Levels including toxaphene at 498.0 mg/kg in a surface soil sample.

EPA conducted an Engineering Evaluation and Cost Analysis and selected thermal desorption as the removal action in an Action Memorandum dated February 8, 2001. EPA has started the removal action at the Facility.

The partial cashout settlement requires the settling party to pay $950,000.00, including interest, into a special account to fund EPA's removal action at the Facility. The settling party also agrees to pay for 50% of any cost overruns that exceed $4,005,479. This proposed settlement includes institutional controls and a covenant not to sue the settling party pursuant to section 107(a) of CERCLA, 42 U.S.C. 9607(a).

Dated: September 21, 2001.
William W. Rice,
Acting Regional Administrator, Region VII.

[FR Doc. 01-26685 Filed 10-22-01; 8:45 am]

BILLING CODE 6560-50-P